DEPARTMENT OF ENERGY

Federal Energy Regulatory Commission

[Docket No. CP00-231-000]

Southern Natural Gas Company; Notice of Intent To Prepare an Environmental Assessment for the Proposed Wren Compressor Station Project and Request for Comments on Environmental Issues

June 2, 2000.

The staff of the Federal Energy Regulatory Commission (FERC or Commission) will prepare an environmental assessment (EA) that will discuss the environmental impacts of the Wren Compressor Station Project involving the installation and operation of compressor facilities by Southern Natural Gas Company (Southern) in Jefferson County, Georgia.¹ This EA will be used by the Commission in its decision-making process to determine whether the project is in the public convenience and necessity.

¹ Southern's application was filed with the Commission under Section 7 of the Natural Gas Act and Part 157 of the Commission's regulations.

If you are a landowner receiving this notice, you may be contacted by a pipeline company representative about the company's intent to install certain compressor unit facilities at an adjacent or nearby commercial property owned by Southern.

A fact sheet prepared by the FERC entitled “An Interstate Natural Gas Facility On My Land? What Do I Need To Know?” was attached to the project notice Southern provided to landowners. This fact sheet addresses a number of typically asked questions, including the use of eminent domain and how to participate in the Commission's proceedings. It is available for viewing on the FERC Internet website (www.ferc.fed.us).

Summary of the Proposed Project

Southern wants to add one compressor unit at its existing Wrens Compressor Station (C.S.). The Wrens C.S. is located at about milepost 459.87 on Southern's South Main Line System in Jefferson County, Georgia. The compressor unit installation is part of a provision of the Stipulation and Agreement filed by Southern in Docket Nos. RP990496-000 and RP99-496-001 (Settlement). Specifically, the Settlement provides that Southern file an application for authorization to install a 3,500 horsepower (hp) compressor unit at its existing Wrens Compressor Station.

Currently, there is a total of 2,120 hp at the Wrens C.S. With the addition of the compressor unit proposed in this application, the compressor station would have a total of 5,620 hp. Southern also proposes to install certain facilities to implement noise mitigation measures. Southern proposes to install the additional facilities beginning in April 2001, with an in-service date of October 1, 2001.

The general location of Southern's Wrens C.S. and a layout/plot plan of the facility are shown in appendix 1.²

² The appendices referenced in this notice are not being printed in the Federal Register. Copies are available on the Commission website at the “RIMS” link or from the Commission's Public Reference and Files Maintenance Branch, 888 First Street, NE, Room 2A, Washington, DC 20425, or call (202) 208-1371. For instructions on connecting to RIMS, refer to the last page of this notice. Copies of the appendices were sent to all those receiving this notice in the mail.

Land Requirements for Construction

The area to be impacted by the installation is less than 0.5 acres in size. The additional compressor unit and other appurtenances would be installed using standard construction methods for compressor installations. The previously cleared and graded area would be excavated for footing, utility and piping stubs, and concrete footings. Flooring would be poured, and the walls erected. The building would be wired for electricity, and would be completed with the installation of the compressor unit.

The EA Process

The National Environmental Policy Act (NEPA) requires the Commission to take into account the environmental impacts that could result from an action whenever it considers the issuance of a Certificate of Public Convenience and Necessity. NEPA also requires us to discover and address concerns the public may have about proposals. We call this “scoping”. The main goal of the scoping process is to focus the analysis in the EA on the important environmental issues. By this Notice of Intent, the Commission requests public comments on the scope of the issues it will address in the EA. All comments received are considered during the preparation of the EA. State and local government representatives are encouraged to notify their constituents of this proposed action and encourage them to comment on their areas of concern.

Our independent analysis of the issues will be in the EA. Depending on the comments received during the scoping process, the EA may be published and mailed to Federal, state, and local agencies, public interest groups, interested individuals, affected landowners, newspapers, libraries, and the Commission's official service list for this proceeding. A comment period will be allotted for review if the EA is published. We will consider all comments on the EA before we make our recommendations to the Commission.

To ensure your comments are considered, please carefully follow the instructions in the public participation section below.

Currently Identified Environmental Issues

We have already identified two issues that we think deserve attention based on a preliminary review of the proposed facilities and the environmental information provided by Southern. This preliminary list of issues may be changed based on your comments and our analysis.

• Impacts on local air environment as a result of the operation of the new compressor upgrades.

• Impacts on four noise-sensitive areas (NSAs) located between 600 and 740 feet from the proposed compressor building.

Public Participation

You can make a different by providing us with your specific comments or concerns about the project. By becoming a commentor, your concerns will be addressed in the EA and considered by the Commission. You should focus on the potential environmental effects of the proposal, alternatives to the proposal (including alternative [locations/routes]), and measures to avoid or lessen environmental impact. The more specific your comments, the more useful they will be. Please carefully follow these instructions to ensure that your comments are received in time and properly recorded:

• Send two copies of your letter to: David P. Boergers, Secretary, Federal Energy Regulatory Commission, 888 First St., N.E., Room 1A, Washington, DC 20426.

• Label one copy of the comments for the attention of Gas 1.

• Reference Docket No. CP00-231-000.

• Mail your comments so that they will be received in Washington, DC on or before July 3, 2000.

Becoming an Intervenor

In addition to involvement in the EA scoping process, you may want to become an official party to the proceeding known as an “intervenor”. Intervenors play a more formal role in the process. Among other things, intervenors have the right to receive copies of case-related Commission documents and filings by other intervenors. Likewise, each intervenor must provide 14 copies of its filings to the Secretary of the Commission and must send a copy of its filings to all other parties on the Commission's service list for this proceeding. If you want to become an intervenor you must file a motion to intervene according to Rule 214 of the commission's Rules of Practice and Procedure (18 CFR 385.214) (see appendix 2). Only intervenors have the right to seek rehearing of the Commission's decision.

Affected landowners and parties with environmental concerns may be granted intervenor status upon showing good cause by stating that they have a clear and direct interest in this proceeding which would not be adequately represented by any other parties. You do not need intervenor status to have your environmental comments considered.

Additional information about the proposed project is available from Mr. Paul McKee of the Commission's Office of External Affairs at (202) 208-1088 or on the FERC website (www.ferc.fed.us) using the “RIMS” link to information in this docket number. Click on the “RIMS” select “Docket #” from the RIMS Menu, and follow the instructions. For assistance with access to RIMS, the RIMS helpline can be reached at (202) 208-2222.

Similarly, the “CIPS” link of the FERC Internet website provides access to the texts of formal documents issued by the Commission, such as orders, notices, and rulemakings. From the FERC Internet website, click on the “CIPS” link, select “Docket #” from the CIPS menu, and follow the instructions. For assistance with access to CIPS, the CIPS helpline can be reached at (202) 208-2474.

David P. Boergers,
Secretary.

[FR Doc. 00-14399 Filed 6-7-00; 8:45 am]

BILLING CODE 6717-01-M